DEPARTMENT OF ENERGY

Federal Energy Regulatory Commission

[Docket No. RP00-257-004]

Ozark Gas Transmission, L.L.C.; Notice of Proposed Changes in FERC Gas Tariff

November 2, 2000.

Take notice that on October 27, 2000, Ozark Gas Transmission, L.L.C. (Ozark) tendered for filing as part of its FERC Gas Tariff, Original Volume No. 1, the following revised tariff sheets, to be effective on November 1, 2000.

Substitute First Revised Sheet No. 13

First Revised Sheet No. 17

First Revised Sheet No. 46

First Revised Sheet No. 47

First Revised Sheet No. 80

Ozark states that the purpose of this filing is to place into effect settlement rates on an interim basis pending Commission approval of the Offer of Settlement that was filed with the Commission in this proceeding on October 27, 2000, which proposes to resolve all issues in this proceeding and is supported by the majority of the parties hereto.

Ozark further states that it has served copies of this filing upon the company's jurisdictional customers and interested state commissions and all persons on the official service list for the proceeding.

Any person desiring to protest said filing should file a protest with the Federal Energy Regulatory Commission, 888 First Street, NE., Washington, DC 20426, in accordance with Section 385.211 of the Commission's Rules and Regulations. All such protests must be filed in accordance with Section 154.210 of the Commission's Regulations. Protests will be considered by the Commission in determining the appropriate action to be taken, but will not serve to make protestants parties to the proceedings. Copies of this filing are on file with the Commission and are available for public inspection in the Public Reference Room. This filing may be viewed on the web at http://www.ferc.fed.us/online/rims.htm (call 202-208-2222 for assistance).

Comments and protests may be filed electronically via the internet in lieu of paper. See, 18 CFR 385.2001(a)(1)(iii) and the instructions on the Commission's web site at http://www.ferc.fed.us/efi/doorbell.htm.

David P. Boergers,
Secretary.

[FR Doc. 00-28638 Filed 11-7-00; 8:45 am]

BILLING CODE 6717-01-M